DEPARTMENT OF TRANSPORTATION

Federal Aviation Administration

14 CFR Part 39

[Docket No. FAA-2011-0518; Directorate Identifier 2010-NM-150-AD]

RIN 2120-AA64

Airworthiness Directives; Airbus Model A300 B4-600, B4-600R, and F4-600R Series Airplanes, and Model C4-605R Variant F Airplanes (Collectively Called A300-600 Series Airplanes); and Model A310 Series Airplanes

AGENCY: Federal Aviation Administration (FAA), DOT.

ACTION: Notice of proposed rulemaking (NPRM).

SUMMARY: We propose to adopt a new airworthiness directive (AD) for the products listed above. This proposed AD was prompted by events of excessive rudder pedal inputs and consequent high loads on the vertical stabilizer on several airplanes. High loads on the vertical stabilizer that exceed ultimate design loads could cause failure of the vertical stabilizer and consequent reduced controllability of the airplane. The proposed AD would require actions that are intended to address this unsafe condition.

DATES: We must receive comments on this proposed AD by July 5, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone 425-227-2125; fax 425-227-1149.

SUPPLEMENTARY INFORMATION:

Comments Invited

We invite you to send any written relevant data, views, or arguments about this proposed AD. Send your comments to an address listed under the ADDRESSES section. Include “Docket No. FAA-2011-0518; Directorate Identifier 2010-NM-150-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of events of excessive rudder pedal inputs that resulted in high vertical stabilizer loads on Airbus Model A300-600 and A310 series airplanes. In one case, the in-flight separation of the vertical stabilizer resulted from loads beyond ultimate design that were created by the pilot making excessive rudder pedal reversals. In another incident, during stall recovery, the airplane accelerations were so high that the rudder travel limiter was not capable of appropriately limiting rudder travel. Rudder pedal inputs in this case also resulted in high vertical stabilizer loads. Contributing to these rudder pedal inputs were characteristics of the rudder system design. Rudder pedal sensitivity on Model A300-600 and A310 series airplanes is greater than that of other transport category airplane designs. Such rudder control sensitivity could result in rudder over-control and contribute to hazardous rudder pedal inputs such as rudder reversals. Hazardous rudder pedal inputs could result in loads that exceed ultimate design loads, potentially causing failure of the vertical stabilizer and consequent reduced controllability of the airplane.

Currently, there are no service instructions to address this unsafe condition. However, one option under consideration consists of a modification to the rudder control system that is called the pedal travel limiter unit (PTLU). The PTLU limits rudder pedal stroke and allows the yaw damper to decrease the rudder deflection. The PTLU also provides limiting rates that ensure that rudder travel is appropriately limited during high acceleration maneuvers. Other potential design changes are also under review. We anticipate that one of these design changes will be approved within three years and will meet the requirements of this proposed AD.

FAA's Determination and Requirements of This Proposed AD

These airplanes are manufactured in France and are type certificated for operation in the United States under the provisions of section 21.29 of the Federal Aviation Regulations (14 CFR 21.29) and the applicable bilateral airworthiness agreement.

We are proposing this AD because we evaluated all relevant information and determined that the unsafe condition described previously is likely to exist or develop in other products of the same type design.

The proposed AD would require actions to address this unsafe condition.

Costs of Compliance

We estimate that this proposed AD would affect 215 airplanes of U.S. registry.

One way, but not the only way, to modify the rudder control system is to install a PTLU. The following table provides the estimated costs for U.S. operators to comply with this proposed AD if a PTLU is installed based on preliminary information provided by the manufacturer.

Estimated Costs for PTLU Installation
Work hours | Average labor rate per hour | Parts | Cost per product | Fleet cost
100 | $85 | $190,000 | $198,500 | $42,677,500

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2011-0518; Directorate Identifier 2010-NM-150-AD.

Comments Due Date

(a) We must receive comments by July 5, 2011.

Affected ADs

(b) None.

Applicability

(c) This AD applies to all Airbus Model A300 B4-601, B4-603, B4-620, and B4-622 airplanes; A300 B4-605R and B4-622R airplanes; A300 F4-605R and F4-622R airplanes; A300 C4-605R Variant F airplanes; and A310-203, -204, -221, -222, -304, -322, -324, and -325 airplanes; certificated in any category.

Subject

(d) Air Transport Association (ATA) of America Code 27: Flight controls.

Unsafe Condition

(e) This AD was prompted by events of excessive rudder pedal inputs and consequent loads on the vertical stabilizer that exceed ultimate design loads. Such events could lead to failure of the vertical stabilizer and consequent reduced controllability of the airplane.

Compliance

(f) You are responsible for having the actions required by this AD performed within the compliance times specified, unless the actions have already been done.

Modification

(g) Within 48 months after the effective date of this AD, incorporate a design change to the rudder control system and/or other systems to address the unsafe condition identified in paragraph (e) of this AD, in accordance with a method approved by the Manager, International Branch, ANM-116, Transport Airplane Directorate, FAA.

Alternative Methods of Compliance (AMOCs)

(h)(1) The Manager, International Branch, ANM-116, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(i) For more information about this AD, contact Dan Rodina, Aerospace Engineer, International Branch, ANM-116, Transport Airplane Directorate, FAA, 1601 Lind Avenue SW., Renton, Washington 98057-3356; telephone 425-227-2125; fax 425-227-1149.

Issued in Renton, Washington, on April 26, 2011.
Ali Bahrami,
Manager, Transport Airplane Directorate, Aircraft Certification Service.

[FR Doc. 2011-12309 Filed 5-18-11; 8:45 am]

BILLING CODE 4910-13-P